FEDERAL COMMUNICATIONS COMMISSION

47 CFR Parts 25 and 101

[FCC 01-323]

Redesignation of the 18 GHz Frequency Band, Blanket Licensing of Satellite Earth Stations in the Ka-band, and the Allocation of Additional Spectrum for Broadcast Satellite-Service Use; Correction

AGENCY: Federal Communications Commission.

ACTION: Final rule; correction.

SUMMARY: The Commission adopted an order granting in part and denying in part the petitions for reconsideration of the 18 GHz Order filed by various parties. The Commission, among other things, affirmed its basic findings in the 18 GHz Order and addressed a number of issues raised by parties in their reconsideration petitions. Because an error was made in the publication of the final rule, this document contains a correction to the final rule document which was published in the Federal Register on December 7, 2001 (66 FR 63512).

DATES: Effective July 17, 2002.

ADDRESSES: Federal Communications Commission, Secretary, 445 12th Street, SW., Room TW-B204F, Washington, DC 20554.

FOR FURTHER INFORMATION CONTACT: Peggy Reitzel, Policy Division, International Bureau, (202) 418-1449.

SUPPLEMENTARY INFORMATION: On December 7, 2001 (66 FR 63512), the Federal Register published a summary of the final rule in the above captioned proceeding. Instruction 5 of the rules amended § 25.208 by revising paragraph (c), removing paragraph (d), and redesignating paragraph (e) as paragraph (d) and paragraph (f) as paragraph (e). In redesignating paragraph (e) as paragraph (d), the instructions neglected to revise paragraph (d) of § 25.208(d). This document corrects § 25.208(d).

On page 63515, in the third column, instruction 5 is corrected to read as follows:

5. Section 25.208 is amended by removing paragraph (d), redesignating paragraphs (e) and (f) as paragraphs (d) and (e) and by revising paragraph (c) and newly designated paragraph (d) to read as follows:

§ 25.208 Power flux-density limits.

* * * * *

(c) In the 18.3-18.8 GHz, 19.3-19.7 GHz, 22.55-23.00 GHz, 23.00-23.55 GHz, and 24.45-24.75 GHz frequency bands, the power flux-density at the Earth's surface produced by emissions from a space station for all conditions for all methods of modulation shall not exceed the following values:

(1) −115 dB (W/m²) in any 1 MHz band for angles of arrival between 0 and 5 degrees above the horizontal plane.

(2) −115 + 0.5 (d-5) dB (W/m²) in any 1 MHz band for angles of arrival d (in degrees) between 5 and 25 degrees above the horizontal plane.

(3) −105 dB (W/m²) in any 1 MHz band for angles of arrival between 25 and 90 degrees above the horizontal plane.

(d) In addition to the limits specified in paragraph (c) of this section, the power flux-density across the 200 MHz band 18.6-18.8 GHz produced at the Earth's surface by emissions from a space station under assumed free-space propagation conditions shall not exceed −95 dB (W/m²) for all angles of arrival. This limit may be exceeded by up to 3 dB for no more than 5% of the time.

* * * * *

Federal Communications Commission.
Marlene H. Dortch,
Secretary.

[FR Doc. 02-17993 Filed 7-16-02; 8:45 am]

BILLING CODE 6712-01-U